DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of an individual and entity whose property and interests in property have been blocked pursuant to the Foreign Narcotics Kingpin Designation Act (Kingpin Act) (21 U.S.C. 1901-1908, 8 U.S.C. 1182).

DATES: The identification by the Acting Director of OFAC of the individual and entity identified in this notice pursuant to section 805(b) of the Kingpin Act is effective on March 9, 2016.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Act separately provides that the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking. The authority to identify, designate, and block the property and interests in property of persons under the Kingpin Act is delegated to the Director of OFAC pursuant to 31 CFR 598.803.

On March 9, 2016, the Acting Director of OFAC identified the following individual and entity whose property and interests in property are blocked pursuant to section 805(b) of the Kingpin Act.

1. HASSAN, Ali Khatib Haji (a.k.a. ALEX, Maiko Joseph; a.k.a. HAJI, Ali Khatib; a.k.a. HAJI, Ali Khatibu; a.k.a. SHAKUR, Abdallah; a.k.a. “SHIKUBA”; a.k.a. “SHKUBA”); DOB 05 Jun 1970; alt. DOB 01 Jan 1963; alt. DOB 08 Jun 1970; POB Zanzibar, Tanzania; alt. POB Dar es Salaam, Tanzania; nationality Tanzania; citizen Tanzania; Gender Male; Passport AB269600 (Tanzania); alt. Passport AB360821 (Tanzania); alt. Passport AB564505 (Tanzania); alt. Passport A0389018 (Tanzania); alt. Passport AB179561 (Tanzania); alt. Passport A0010167 (Tanzania) (individual) [SDNTK].

2. HASSAN DRUG TRAFFICKING ORGANIZATION (a.k.a. HASSAN DTO; a.k.a. SHKUBA DTO), Tanzania; South Africa [SDNTK].

Dated: March 9, 2016.
John E. Smith,
Acting Director, Office of Foreign Assets Control.

[FR Doc. 2016-05633 Filed 3-11-16; 8:45 am]

BILLING CODE 4810-AL-P